NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 8, 2007. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note that the new time period for requesting copies has changed from 45 to 30 days after publication):

1. Department of Defense, Defense Commissary Agency, Agency-wide (N1-506-07-7, 2 items, 2 temporary items). Records pertaining to the designation and training of authorized procurement personnel utilizing the Government Purchase Card. These files consist of procurement authorities, authorization limitations, and registers reflecting appointments and terminations. Also included are correspondence, reports and related records on purchases made using the card. This schedule authorizes the agency to apply the proposed disposition instructions to any recordkeeping medium.

2. Department of Defense, Defense Commissary Agency, Agency-wide (N1-506-07-8, 4 items, 4 temporary items). Records related to the maintenance of facilities, management and consumption of energy, and environmental policy. Included are correspondence, contract information, case files, status reports and logs. This schedule authorizes the agency to apply the proposed disposition instructions to any recordkeeping medium.

3. Department of Energy, Agency-wide (N1-434-02-2, 10 items, 5 temporary items). Older records accumulated primarily between 1940 and 1979, pertaining to minerals, fuels, and other energy-related matters. Included are case files on petroleum importers, case files on feasibility of power companies' conversion from oil to coal, determinations on applications for hydroelectric power sites, and survey forms and manual tabulations concerning production and shipment of fuels. Proposed for permanent retention are correspondence and reports on national and international production and distribution of minerals, records relating to fuel conservation during World War II, research reports relating to explosives, and records relating to stone quarries.

4. Department of Health and Human Services, Office of the Secretary (N1-468-06-2, 2 items, 2 temporary items). Records accumulated by the Program Support Center including indirect cost agreements and proposals between the government and grantee institutions documenting the negotiated rate for reimbursement for administrative costs related to Federal programs. Also included are associated electronic tracking systems. This schedule authorizes the agency to apply the proposed disposition instructions to any recordkeeping medium.

5. Department of Homeland Security, Transportation Security Administration (N1-560-06-6, 10 items, 10 temporary items). Inputs, master files, outputs, and program documentation associated with electronic information systems used to conduct threat assessments for individuals who require credentials to access the nation's transportation infrastructure or assets or who may otherwise be required by Federal statute or regulation to undergo a security threat assessment. This schedule does not include records associated with Secure Flight. For all items on this schedule except the master files and the program documentation, the agency is authorized to apply the proposed disposition instructions to any recordkeeping medium.

6. Department of Homeland Security, U.S. Customs and Border Protection (N1-568-06-1, 5 items, 3 temporary items). Interim delegations of authority, duplicates of program and administrative delegations of authority and related program support records. Proposed for permanent retention are recordkeeping copies of program and administrative delegations of authority. For all items on this schedule except the recordkeeping copies of delegations of authority, this schedule authorizes the agency to apply the proposed disposition instructions to any recordkeeping medium.

7. Department of Justice, Bureau of Prisons (N1-129-06-2, 2 items, 2 temporary items). Records of the Psychology Services Department relating to drug education and drug abuse testing and treatment.

8. Department of Justice, Drug Enforcement Administration (N1-170-06-3, 4 items, 4 temporary items). Inputs, outputs, master files, and system documentation for the Centers for Drug Information database, which is a clearinghouse for international illegal drug trafficking information.

9. Department of Justice, Federal Bureau of Investigation (N1-65-07-3, 32 items, 32 temporary items). Inputs, outputs, master files, documentation, audit logs, appeal files and related records associated with the National Instant Criminal Background Check System used to determine whether a prospective purchaser is prohibited from owning a firearm.

10. Department of Justice, Federal Bureau of Investigation (N1-65-07-6, 4 items, 4 temporary items). Outputs, master file, and system documentation of a subscription management system which delivers to subscribers e-mail alerts of changes to the FBI public Web site for specific content areas.

11. Department of the Treasury, Bureau of the Public Debt (N1-53-06-3, 4 items, 4 temporary items). Records relating to agreements with franchise customers, related billing information, initial development of services to be provided, estimated costs, charges submitted to customers, associated costs, and promotion of franchise services.

12. Department of the Treasury, Bureau of the Public Debt (N1-53-06-6, 10 items, 9 temporary items). Records relating to accounting functions, including working documents, financial research reports, debt statements and reconciliations, and financial statements and reconciliations. Proposed for permanent retention are recordkeeping copies of monthly financial statements detailing the financial status of the Federal Government.

13. Department of the Treasury, Office of Thrift Supervision (N1-483-07-2, 10 items, 10 temporary items). Litigation files, enforcement files, opinions, subject files, reports and other records of the General Counsel's Office previously approved as temporary in paper format. This schedule authorizes the agency to apply the proposed disposition instructions to any recordkeeping medium.

14. National Archives and Records Administration, Office of Inspector General (N1-64-07-1, 5 items, 5 temporary items). Investigative case files, complaint files, and a case tracking system, relating to alleged fraud, abuse, irregularities, and violations of laws and regulations.

15. National Archives and Records Administration, Office of Records Services—Washington, DC (N2-26-07-1, 1 item, 1 temporary item). Records accumulated by the Coast Guard, 1913-1945, consisting of lantern slides of the International Ice Patrol. Records were previously accessioned into the National Archives but lack historical value.

16. National Archives and Records Administration, Office of Records Services—Washington, DC (N2-185-07-1, 1 item, 1 temporary item). Identification photographs accumulated by the Panama Canal Commission, 1917-1945. These records were previously accessioned into the National Archives but lack historical value.

17. National Endowment for the Arts, Administrative Services Division (N1-288-06-2, 4 items, 4 temporary items). Case files and associated end products documenting administrative activities relating to financial awards. Records include application material, award approval material, and final reporting material.

Dated: December 27, 2006.
Michael J. Kurtz,
Assistant Archivist for Records Services, Washington, DC.

[FR Doc. E7-75 Filed 1-8-07; 8:45 am]

BILLING CODE 7515-01-P